DEPARTMENT OF THE INTERIOR

Bureau of Land Management

[MT-070-1990-EX]

Notice of Availability of the Final Environmental Impact Statement for the Proposed “M” Pit Mine Expansion at the Montana Tunnels Mine, Jefferson County, MT

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), a Final Environmental Impact Statement (FEIS) has been prepared for the Montana Tunnels Mine “M” Pit Mine Expansion. The mine permit is administered by the Bureau of Land Management's (BLM's) Butte Field Office and the Montana Department of Environmental Quality. Operations on public lands in the permit area are on mining claims located in accordance with the General Mining Law of 1872, as amended (30 U.S.C. 22 et seq.).

DATES: The FEIS will be available for review for 30 days following the date the Environmental Protection Agency (EPA) publishes the Notice of Availability in the Federal Register. A Record of Decision (ROD) will be prepared following the 30-day public availability period.

ADDRESSES: Copies of the FEIS have been sent to affected federal, state, and local government agencies and to interested parties. Copies of the FEIS are available for public inspection at the Montana Department of Environmental Quality, 1520 East 6th Avenue, Helena, MT 59620-0901 and the Bureau of Land Management, Butte Field Office, 106 N. Parkmont, Butte, MT 59701. Interested parties may also review the FEIS on the Internet at http://www.deq.mt.gov.

FOR FURTHER INFORMATION CONTACT: Greg Hallsten, Montana Department of Environmental Quality, P.O. Box 200901, Helena, MT 59620-0901; or David Williams, Bureau of Land Management, Butte Field Office, 106 N. Parkmont, Butte, MT 59701.

SUPPLEMENTARY INFORMATION: The Montana Tunnels Mine is a 1200 acre lead, zinc, gold and silver mine located T. 7 N., R. 4 W. in Jefferson County 5 miles west of Jefferson City, Montana. In September 2004, Montana Tunnels, Inc. submitted an application to expand their operation. The Notice of Intent to prepare the EIS was published in the Federal Register, 70 FR 8612 on February 22, 2005 and the Notice of Availability of the Draft EIS was announced in the Federal Register, 73 FR 7588-89 on February 8, 2008. Comments on the Draft EIS received from the public, from other agencies, and from the internal DEQ and BLM review were incorporated into the FEIS. These comments resulted in the addition of clarifying text but did not significantly change the alternatives.

The FEIS addresses three alternatives associated with the Montana Tunnels Mine “M” Pit Mine Expansion: The No Action Alternative, the Proposed Action Alternative, and the Agency Modified Alternative, which is the preferred alternative. The No Action Alternative would limit mine disturbance to 1200 acres, and the mine would close in 2010. The Proposed Action Alternative would result in disturbance of 1452 acres and a pit depth of 4250. This Alternative would result in the loss of approximately 2600 feet of Clancy Creek as the stream would be diverted around the expanded open pit in both a pipe and open flow channel. A portion of the Clancy Creek flow would be diverted into the pit to augment the formation of a pit lake following completion of mining. The Agency Modified Alternative would be similar to the Proposed Action Alternative, with the exception of measures to improve environmental performance including: More natural surface reclamation techniques, improved geochemical and groundwater monitoring, and establishment of a reconstructed Clancy Creek channel to protect streamflow, wetlands, and fisheries.

Rick M. Hotaling,
Field Manager.

[FR Doc. E8-22535 Filed 9-25-08; 8:45 am]

BILLING CODE 4310-DN-P